DEPARTMENT OF COMMERCE

Foreign-Trade Zones Board

[B-49-2012]

Foreign-Trade Zone 8—Toledo, OH; Application for Reorganization and Expansion Under Alternative Site Framework

An application has been submitted to the Foreign-Trade Zones (FTZ) Board (the Board) by the Toledo-Lucas County Port Authority, grantee of FTZ 8, requesting authority to reorganize and expand the zone under the alternative site framework (ASF) adopted by the Board (15 CFR 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 12, 2012.

FTZ 8 was approved by the Board on October 11, 1960 (Board Order 51, 25 FR 9099, 10/15/2960) and expanded on: January 22, 1973 (Board Order 92, 38 FR 3015, 1/31/1973); January 11, 1985 (Board Order 277, 50 FR 2702, 1/18/1985); August 19, 1991 (Board Order 532, 56 FR 42026, 8/26/1991); June 12, 2000 (Board Order 1102, 65 FR 37960, 6/19/2000); June 7, 2002 (Board Order 1231, 67 FR 41393, 6/18/2002); February 17, 2005 (Board Order 1376, 70 FR 9613-9614, 2/28/2005); August 23, 2005 (Board Order 1408, 70 FR 51335, 8/30/2005); and, August 5, 2009 (Board Order 1637, 74 FR 41374, 8/17/2009).

The current zone project includes the following sites: Site 1 (332 acres)—Port of Toledo Complex, Toledo; Site 2 (337 acres)—Toledo Express Airport, 11311 W. Airport Service Drive Swanton; Site 3 (10 acres)—First Choice Packaging, 1501 West State Street Fremont; Site 4 (459 acres)—Cedar Point Development Park, Lallendorf Road/Cedar Point Road/Wynn Road Oregon; Site 5 (167 acres)—Ohio Northern Global Distribution and Business Training Center, 6722 Commodore Road Walbridge; Site 7 (34 acres)—Ampoint Industrial Complex, 851 Third Street Perrysburg; and, Site 8 (3 acres)—Metro International Trade Services, LLC, 1802 Nebraska Avenue Toledo.

The grantee's proposed service area under the ASF would be Sandusky, Henry, Wood, Lucas and Defiance Counties, Ohio, as described in the application. If approved, the grantee would be able to serve sites throughout the service area based on companies' needs for FTZ designation. The proposed service area is within and adjacent to the Toledo-Sandusky Customs and Border Protection port of entry.

The applicant is requesting authority to reorganize its existing zone project to include existing Sites 1, 2, 4, and 5 as “magnet” sites and Sites 7 and 8 as “usage-driven” sites. The applicant is also requesting that Site 3 be removed. The ASF allows for the possible exemption of one magnet site from the “sunset” time limits that generally apply to sites under the ASF, and the applicant proposes that Site 1 be so exempted. The applicant is also requesting approval of a subzone (Subzone 8I) under the ASF with the following sites: Proposed Site 1 (205.2 acres)—Whirlpool Corporation, 119 Birdseye Street 1081 and 1285 W. McPherson Highway Clyde, Sandusky County; Proposed Site 2 (23 acres)—Whirlpool C1 and C2 Warehouses, 240 and 247 Norwest Drive Clyde, Sandusky County; and, Proposed Site 3 (2.9 acres)—Whirlpool C3 Warehouse, 8050 W. County Road 62, Green Springs, Sandusky County. The application would have no impact on FTZ 8's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is September 21, 2012. Rebuttal comments in response to material submitted during the foregoing period may be submitted during the subsequent 15-day period to October 9, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: July 12, 2012.
Andrew McGilvray,
Executive Secretary.

[FR Doc. 2012-17929 Filed 7-20-12; 8:45 am]

BILLING CODE P